DEPARTMENT OF DEFENSE

Office of the Secretary of Defense

Renewal of Department of Defense Federal Advisory Committees

AGENCY: Department of Defense.

ACTION: Renewal of Federal Advisory Committee.

SUMMARY: Under the provisions of the Federal Advisory Committee Act of 1972, (5 U.S.C. Appendix, as amended), the Government in the Sunshine Act of 1976 (5 U.S.C. 552b, as amended), and 41 CFR 102-3.65, the Department of Defense gives notice that it is renewing the charter for the Board of Visitors, Marine Corps University (hereafter referred to as the Board of Visitors).

The Board of Visitors, pursuant to 10 U.S.C. 7102(e), is a non-discretionary federal advisory committee established to provide independent advice and recommendation on matters pertaining to all aspects of the academic and administrative policies of the Marine Corps University.

While the statute is silent on the criteria and number of committee members, the Secretary of Defense, in consultation with the Secretary of the Navy, has determined that no more than sixteen members will be appointed to the Board of Visitors. The Department of Defense, to achieve a balanced membership, will include a cross-section of experts and eminent authorities in the field of education and the fields of study at the Marine Corps University.

The terms of office for those members appointed by the Secretary of Defense shall be for four years and their appointments are renewed on an annual basis. The Secretary of Defense authorizes the Board of Visitor's voting membership to select the Board's President. The Board of Visitor's President, subject to annual renewal by the Secretary of Defense, shall serve a two-year term as Board President. Members of the Board of Visitors, who are not full-time or permanent part-time Federal employees, are appointed as experts and consultants under the authority of 5 U.S.C. 3109, and shall serve as Special Government employees. Full-time or permanent part-time employees of the University shall not serve on the Board of Visitors or its Subcommittees. With the exception of travel and per diem for official travel, the members shall serve without compensation.

The Department of Defense authorizes the Board's President, in consultation with the Designated Federal Officer and the Committee Management Officer for the Department of Defense, to establish and maintain temporary or ad hoc subcommittees or working groups, as necessary and consistent with the Board's mission. These subcommittees or working groups, shall operate under the provisions of the Federal Advisory Committee Act of 1972, the Government in the Sunshine Act of 1976 (5 U.S.C 552b, as amended), and other appropriate federal regulations. In addition, the Department of Defense authorizes the Board to maintain two standing subcommittees—the National Museum of the Marine Corps Subcommittee, and the Executive Subcommittee.

Such Subcommittees or Working Groups shall not work independently of the chartered Board of Visitors, and shall report their recommendations and advice to the Board of Visitors for full deliberation and discussion. Subcommittees or Working Groups have no authority to make decisions on behalf of the chartered Board of Visitors nor can they report directly to the Agency or any Federal officers or employees who are not Board of Visitors members.

FOR FURTHER INFORMATION CONTACT: Contact Jim Freeman, Deputy Committee Management Officer for the Department of Defense, 703-601-6128.

SUPPLEMENTARY INFORMATION: The Board shall meet at the call of the Board's Designated Federal Officer, in consultation with the President of Marine Corps University; the Commanding General, Marine Corps Combat Development Command; and the Chair of the Board. The Board of Visitors shall meet at least once per year but will generally meet twice per year. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Board of Visitors, Marine Corps University membership about the Board's mission and functions. Written statements may be submitted at any time or in response to the stated agenda of planned meeting of the Board of Visitors, Marine Corps University.

All written statements shall be submitted to the Designated Federal Officer for the Board of Visitors, Marine Corps University, and this individual will ensure that the written statements are provided to the membership for their consideration. Contact information for Board of Visitors, Marine Corps University's Designated Federal Officer can be obtained from the GSA's FACA Database— https://www.fido.gov/facadatabase/public.asp.

The Designated Federal Officer, pursuant to 41 CFR 102-3.150, will announce planned meetings of the Board of Visitors, Marine Corps University. The Designated Federal Officer, at that time, may provide additional guidance on the submission of written statements that are in response to the stated agenda for the planned meeting in question.

Morgan E. Frazier,
Alternate OSD Federal Register Liaison Officer, Department of Defense.

[FR Doc. E9-10418 Filed 5-5-09; 8:45 am]

BILLING CODE 5001-06-P